DEPARTMENT OF COMMERCE

National Oceanic and Atmospheric Administration

[I.D. 070201E]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Enforcement Oversight Committee and Advisory Panel and its Mid-Atlantic Plans Committee in July, 2001 to consider actions affecting New England fisheries in the exclusive economic zone (EEZ). Recommendations from these groups will be brought to the full Council for formal consideration and action, if appropriate.

DATES: The meetings will be held on Tuesday, July 24, 2001, from 9 a.m. to 12 noon. See SUPPLEMENTARY INFORMATION for specific dates and times.

ADDRESSES: The meetings will be held in Portland, ME. See SUPPLEMENTARY INFORMATION for specific locations.

FOR FURTHER INFORMATION CONTACT: Paul J. Howard, Executive Director, New England Fishery Management Council; (978) 465-0492.

SUPPLEMENTARY INFORMATION:

Meeting Dates and Agendas

Tuesday, July 24, 2001, 9 a.m.- 12 noon.—Enforcement Oversight Committee and Advisory Panel.

Location: Holiday Inn by the Bay, 88 Spring Street, Portland, ME 04101; telephone: (207) 775-2311.

The Committee will consider issues concerning: (1) the applicability of Vessel Monitoring Systems (VMS) regulations for vessels voluntarily participating in the VMS program; (2) vessel operators who have had their permits revoked but who continue to operate vessels without an operator permit; (3) possible modification to scallop gear stowage provisions in order to improve safety at sea.

Tuesday, July 24, 2001, 9 a.m. - 12 noon.—Mid-Atlantic Plans Committee Meeting.

Location: Holiday Inn by the Bay, 88 Spring Street, Portland, ME 04101; telephone: (207) 775-2311.

The committee will review and provide guidance to the Council on proposed changes to the Mid-Atlantic Atlantic Mackerel, Squid, and Butterfish Fishery Management Plan (FMP) and the Summer Flounder, Scup, and Black Sea Bass FMP. They will discuss other Mid-Atlantic issues of concern.

Although non-emergency issues not contained in this agenda may come before this group for discussion, those issues may not be the subject of formal action during this meeting. Action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: July 3 , 2001.
Richard W. Surdi,
Acting Director, Office of Sustainable Fisheries, National Marine Fisheries Service.

[FR Doc. 01-17098 Filed 7-6-01; 8:45 am]

BILLING CODE 3510-22-S